DEPARTMENT OF HOMELAND SECURITY

Federal Emergency Management Agency

44 CFR Part 65

[Docket ID FEMA-2008-0020; Internal Agency Docket No. FEMA-B-1030]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq. ; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community No.
Alabama:
Elmore | City of Millbrook (08-04-3794P) | December 11, 2008, December 18, 2008, The Millbrook Independent | The Honorable Al Kelley, Mayor, City of Millbrook, 5010 Brownswood Circle, Millbrook, AL 36054 | April 17, 2009 | 010370
Montgomery | City of Montgomery (07-04-3037P) | December 11, 2008, December 18, 2008, Montgomery Advertiser | The Honorable Bobby N. Bright, Mayor, City of Montgomery, P.O. Box 1111, Montgomery, AL 36101 | April 17, 2009 | 010174
Arizona: Coconino | City of Flagstaff (08-09-1360P) | December 15, 2008, December 22, 2008, Arizona Daily Sun | The Honorable Sara Presler, Mayor, City of Flagstaff, 211 West Aspen Avenue, Flagstaff, AZ 86001 | November 28, 2008 | 040020
Colorado:
Garfield | Unincorporated areas of Garfield County (07-08-0852P) | August 14, 2008, August 21, 2008, Citizen Telegram | The Honorable Trési Houpt, Chairman, Garfield County Board of Commissioners, 108 Eighth Street, Glenwood Springs, CO 81601 | December 19, 2008 | 080205
Garfield | City of Rifle (07-08-0852P) | August 14, 2008, August 21, 2008, Citizen Telegram | The Honorable John Hier, City Manager, City of Rifle, 202 Railroad Avenue, Rifle, CO 81650 | December 19, 2008 | 085078
Florida: Collier | City of Marco Island (08-04-5939P) | December 8, 2008, December 15, 2008, Naples Daily News | The Honorable William D. Trotter, Chairman, City Council, City of Marco Island, 50 Bald Eagle Drive, Marco Island, FL 34145 | April 14, 2009 | 120426
Georgia: Columbia | Unincorporated areas of Columbia County (08-04-4889P) | December 14, 2008, December 21, 2008, The Columbia County News Times | The Honorable Ron C. Cross, Chairman, Columbia County Board of Commissioners, P.O. Box 498, Evans, GA 30809 | April 20, 2009 | 130059
Maryland:
Carroll and Frederick | Unincorporated areas of Carroll County (08-03-1713P) | December 15, 2008, December 22, 2008, Carroll County Times | The Honorable Julia Gouge, President, Carroll County Board of Commissioners, 225 North Center Street, Westminster, MD 21157 | April 21, 2009 | 240015
Carroll and Frederick | Unincorporated areas of Frederick County (08-03-1713P) | December 12, 2008, December 19, 2008, Frederick News Post | The Honorable Jan Gardner, President, Frederick County Board of Commissioners, 12 East Church Street, Frederick, MD 21701 | April 21, 2009 | 240027
Missouri:
Stoddard | City of Dexter (07-07-1785P) | February 14, 2008, February 21, 2008, Daily Statesman | The Honorable Joe E. Weber, Mayor, City of Dexter, 301 East Stoddard Street, Dexter, MO 63841 | May 22, 2008 | 290424
Stoddard | Unincorporated areas of Stoddard County (07-07-1785P) | February 14, 2008, February 21, 2008, Daily Statesman | Mr. Greg Mathis, Presiding Commissioner, Stoddard County, P.O. Box 110, Bloomfield, MO 63825-0110 | May 22, 2008 | 290845
New Hampshire: Cheshire | City of Keene (08-01-0182P) | February 28, 2008, March 6, 2008, The Keene Sentinel | The Honorable Philip Dale Pregent, Mayor, City of Keene, Three Washington Street, Keene, NH 03431 | March 20, 2008 | 330023
North Carolina:
Alamance | Unincorporated areas of Alamance County (08-04-4817P) | December 10, 2008, December 17, 2008, The Times-News | Mr. David I. Smith, Manager, Alamance County, Alamance County Office Building, 124 West Elm Street, Graham, NC 27253 | April 16, 2009 | 370001
Randolph | City of Archdale (08-04-4163P) | December 4, 2008, December 11, 2008, The Archdale Trinity-News | The Honorable Bert Lance-Stone, Mayor, City of Archdale, 307 Balfour Drive, P.O. Box 14068, Archdale, NC 27263 | November 13, 2008 | 370273
Pennsylvania: Berks | Township of Colebrookdale (08-03-1560P) | December 11, 2008, December 18, 2008, The Boyertown Area Times | The Honorable Todd Gamler, President, Township of Colebrookdale Board of Commissioners, 765 West Philadelphia Avenue, Boyertown, PA 19512 | April 17, 2009 | 421057
Texas:
Denton | City of Denton (08-06-2890P) | December 10, 2008, December 17, 2008, Denton Record-Chronicle | The Honorable Mark A. Burroughs, Mayor, City of Denton, 215 East McKinney Street, Denton, TX 76201 | April 16, 2009 | 480194
Harris | Unincorporated areas of Harris County (07-06-1885P) | December 11, 2008, December 18, 2008, Houston Chronicle | The Honorable Ed Emmett, Harris County Judge, 1001 Preston Street, Suite 911, Houston, TX 77002 | November 28, 2008 | 480287
Harris | Unincorporated areas of Harris County (08-06-1677P) | December 4, 2008, December 11, 2008, Houston Chronicle | The Honorable Ed Emmett, Harris County Judge, 1001 Preston Street, Suite 911, Houston, TX 77002 | April 10, 2009 | 480287
Johnson | City of Burleson (08-06-3114P) | December 10, 2008, December 17, 2008, Burleson Star | The Honorable Kenneth Shetter, Mayor, City of Burleson, 141 West Renfro Street, Burleson, TX 76028 | April 16, 2009 | 485459
Johnson | Unincorporated areas of Johnson County (08-06-1603P) | December 10, 2008, December 17, 2008, Cleburne Times-Review | The Honorable Roger Harmon, Judge, Johnson County, One North Main Street, Suite 304, Cleburne, TX 76031 | December 29, 2008 | 480879
Johnson | Unincorporated areas of Johnson County (08-06-3114P) | December 10, 2008, December 17, 2008, Cleburne Times-Review | The Honorable Roger Harmon, Johnson County Judge, Two North Mill Street, Room 201, Cleburne, TX 76033 | April 16, 2009 | 480879

(Catalog of Federal Domestic Assistance No. 97.022, “Flood Insurance.”)

Dated: January 6, 2009.
Michael K. Buckley,
Acting Assistant Administrator, Mitigation Directorate, Department of Homeland Security, Federal Emergency Management Agency.

[FR Doc. E9-6573 Filed 3-24-09; 8:45 am]

BILLING CODE 9110-12-P